DEPARTMENT OF DEFENSE

Office of the Secretary

[Docket ID: DoD-2024-OS-0116]

Proposed Collection; Comment Request

AGENCY: Office of the Under Secretary of Defense for Intelligence and Security (OUSD(I&S)), Department of Defense (DoD).

ACTION: 60-Day information collection notice.

SUMMARY: In compliance with the Paperwork Reduction Act of 1995, the Defense Counterintelligence and Security Agency (DCSA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 21, 2025.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, 4800 Mark Center Drive, Mailbox #24, Suite 05F16, Alexandria, VA 22350-1700.

Instructions: All submissions received must include the agency name, docket number and title for this Federal Register document. The general policy for comments and other submissions from members of the public is to make these submissions available for public viewing on the internet at https://www.regulations.gov as they are received without change, including any personal identifiers or contact information.

FOR FURTHER INFORMATION CONTACT: To request more information on this proposed information collection or to obtain a copy of the proposal and associated collection instruments, please write to DCSA, 27130 Telegraph Rd., Quantico, VA 22134, ATTN: Jarvis Waters, 571-305-6366.

SUPPLEMENTARY INFORMATION:

Title; Associated Form; and OMB Number: National Industrial Security System (NISS); DCSA Form 147; OMB Control Number 0705-0006.

Needs and Uses: The information collection requirement is necessary for DCSA to oversee the National Industrial Security Program (NISP) pursuant to Executive Order 12829. The National Industrial Security System (NISS) is the primary collection instrument for DCSA oversight of the NISP and maintaining data associated with cleared facilities and their oversight. The NISS is the repository of records related to the maintenance of information pertaining to contractor facility security clearances (FCL) and contractor capabilities to protect classified information in its possession. The information is utilized to determine if a company and its key management personnel are eligible for issuance of a facility clearance in accordance with 32 CFR part 117 requirements. In addition, information is utilized to inform Government Contracting Activities of contractor's ability to maintain facility clearance status and/or storage capability as well as to analyze vulnerabilities identified within security programs and ensure proper mitigation actions are taken to preclude unauthorized disclosure of classified information. As part of the FCL process, contractors must also complete and maintain a DCSA Form 147 in NISS. The form provides a single document to record the numerous characteristics of Open Storage Areas that are required to be reviewed for contractor facilities to be approved by DCSA for classified storage.

Affected Public: Business or other for-profit; not-for-profit institutions.

Annual Burden Hours: 23,342.

Number of Respondents: 11,671.

Responses per Respondent: 2.

Annual Responses: 23,342.

Average Burden per Response: 1 hour.

Frequency: As required.

Dated: November 13, 2024.
Aaron T. Siegel,
Alternate OSD Federal Register Liaison Officer, Department of Defense.

[FR Doc. 2024-26856 Filed 11-18-24; 8:45 am]

BILLING CODE 6001-FR-P